DEPARTMENT OF DEFENSE

48 CFR Parts 202, 204, 211, 212, 243, and 252

Defense Federal Acquisition Regulation Supplement; Unique Item Identification and Valuation

Correction

Rule document 03-31951 was inadvertently published in the Proposed Rules section in the issue of Tuesday, December 30, 2003, starting on page 75196. It should have appeared in the Rules and Regulations section

[FR Doc. C3-31951 Filed 12-31-03; 8:45 am]

BILLING CODE 1505-01-D

DEPARTMENT OF HOMELAND SECURITY

Coast Guard

46 CFR Parts 401 and 404

[USCG-2002-11288]

RIN 1625-AA38 (Formerly RIN 2115-AG30)

Rates for Pilotage on the Great Lakes

Correction

In rule document 03-30711 beginning on page 69564 in the issue of December 12, 2003, make the following correction:

On page 69570, in the table, in the third column, under the heading “District Three” in the third entry from the bottom, “$25,00” should read “$25, 000”

[FR Doc. C3-30711 Filed 12-31-03; 8:45 am]

BILLING CODE 1505-01-D